SELECTIVE SERVICE SYSTEM

Senior Executive Service: Performance Review Board Members

AGENCY: Selective Service System.

ACTION: Notice.

SUMMARY: This notice announces the appointment of members of the Selective Service System (SSS) Performance Review Board (PRB).

FOR FURTHER INFORMATION CONTACT: Verona C. Ballard, Human Resources Division, Selective Service System, 1515 Wilson Blvd., Arlington, VA 22207, 703-605-4040.

SUPPLEMENTARY INFORMATION: 5 CFR 430.310 requires each agency to establish, in accordance with regulations prescribed by the Office of Personnel Management, one or more Senior Executive Service (SES) performance review boards. The board reviews and evaluates the initial appraisal of a senior executive's performance by the supervisor, and considers recommendations to the appointing authority regarding the performance of the senior executive. Because the SSS is a small independent Federal agency, the members of the SSS's PRB are being drawn from other Federal agencies.

The following executives have been appointed to the SSS Performance Review Board:

Lawrence Roffee, Executive Director, US Access Board;

Gary Thatcher, Associate Director, International Broadcast Bureau;

Debra Carr, Associate Deputy Staff Director, US Commission on Civil Rights.

Dated: January 16, 2007.
William A. Chatfield,
Director.

[FR Doc. 07-208 Filed 1-18-07; 8:45 am]

BILLING CODE 8015-01-M